DEPARTMENT OF THE TREASURY

Internal Revenue Service

26 CFR Part 1

[REG-151135-07]

RIN 1545-BH39

Multiemployer Plan Funding Guidance; Correction

AGENCY: Internal Revenue Service (IRS), Treasury.

ACTION: Correction to a notice of a public hearing on proposed rulemaking.

SUMMARY: This document contains a correction to a notice of public hearing on a notice of proposed rulemaking that was published in the Federal Register on Friday, June 27, 2008 (73 FR 36476) providing additional rules for certain multiemployer defined benefit plans that are in effect on July 16, 2006. These proposed regulations affect sponsors and administrators of, and participants in multiemployer plans that are in either endangered or critical status. These regulations are necessary to implement the new rules set forth in section 432 that are effective for plan years beginning after 2007. The proposed regulations reflect changes made by the Pension Protection Act of 2006.

FOR FURTHER INFORMATION CONTACT: Bruce Perlin, (202) 622-6090 (not a toll-free number).

SUPPLEMENTARY INFORMATION:

Background

The correction notice that is the subject of this document is under section 432 of the Internal Revenue Code.

Need for Correction

As published, a notice of a public hearing on proposed rulemaking (REG-151135-07) contains an error that may prove to be misleading and is in need of clarification.

Correction of Publication

Accordingly, the publication of a notice of public hearing on proposed rulemaking (REG-151135-07), which was the subject of FR Doc. E8-14563, is corrected as follows:

On page 36477, column 1, under the caption SUPPLEMENTARY INFORMATION, line 5, the language Federal Register on Tuesday, March 8,” is corrected to read Federal Register on Tuesday, March 18,”.

LaNita Van Dyke,
Chief, Publications and Regulations Branch, Legal Processing Division, Associate Chief Counsel (Procedure and Administration).

[FR Doc. E8-15043 Filed 7-1-08; 8:45 am]

BILLING CODE 4830-01-P